DEPARTMENT OF COMMERCE

National Oceanic and Atmospheric Administration

RIN 0648-XX87

Marine Fisheries Advisory Committee

AGENCY: National Marine Fisheries Service (NMFS), National Oceanic and Atmospheric Administration (NOAA), Commerce.

ACTION: Notice of open public meeting.

SUMMARY: This notice sets forth the schedule and proposed agenda of a forthcoming meeting of the Marine Fisheries Advisory Committee (MAFAC). The members will discuss and provide advice on issues outlined in the agenda below.

DATES: The meeting is scheduled for August 12, 2009, from 2 - 4 p.m. Eastern Daylight Time.

ADDRESSES: Conference call. Public access is available at SSMC3, Room 13817, 1315 East-West Highway, Silver Spring, MD 20910.

FOR FURTHER INFORMATION CONTACT: Heidi Lovett, (301) 713-9070 x-118; e-mail: Heidi.Lovett@noaa.gov.

SUPPLEMENTARY INFORMATION: The MAFAC was established by the Secretary of Commerce (Secretary) on February 17, 1971, to advise the Secretary on all living marine resource matters that are the responsibility of the Department of Commerce. This committee advises and reviews the adequacy of living marine resource policies and programs to meet the needs of commercial and recreational fisheries, and environmental, State, consumer, academic, tribal, governmental and other national interests. The complete charter and summaries of prior meetings are located online at http://www.nmfs.noaa.gov/ocs/mafac/.

Matters To Be Considered

This meeting is convening to discuss and consider recommendations of the MAFAC Strategic Planning, Budget and Program Management Subcommittee on the NOAA Next Generation Strategic Plan. This agenda is subject to change.

Dated: July 23, 2010.
Samuel D. Rauch III,
Deputy Assistant Administrator for Regulatory Programs, National Marine Fisheries Service.

[FR Doc. 2010-18666 Filed 7-28-10; 8:45 am]

BILLING CODE 3510-22-S